ENVIRONMENTAL PROTECTION AGENCY

[ER-FRL-6633-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-H65012-MO Rating EC2, Rams Horn Project to Accomplish the Direction and Desired Conditions Identified in the Mark Twain National Forest, Land and Resource Management Plan, Houston/Rolla/Creek Ranger District, Phelps and Pulaski Counties, MO.

Summary: EPA expressed environmental concern over the degree of analysis for cumulative impacts of commercial timber sales (water quality, soil compaction and declining bird habitat). EPA also indicated that local economic dependence on commercial timber sales should be considered when comparing less impacting forest management alternatives.

ERP No. D-AFS-K65243-CA Rating EC2, Brown Darby Fuel Reduction Project, Proposal for a Combination of the Salvage Harvesting of Trees Killed and other Fuels Management Activities, Stanislaus National Forest, Calaveras Ranger District, Calaveras and Tuolumne Counties, CA.

Summary: EPA expressed environmental concerns regarding project purpose and need, the range of alternatives, and transportation system planning.

ERP No. D-COE-C30012-NJ Rating EC2, South River, Raritan River Basin Hurricane and Storm Damage Reduction and Ecosystem Restoration, Implementation, Middlesex County, NJ.

Summary: EPA has environmental concerns with the amount and quality of wetland mitigation proposed for the impacts from the project.

ERP No. D-COE-H39010-KS Rating LO, Tuttle Creek Dam Safety Assurance Program, Proposal for Flood Control, Water Supply, Water Quality, Fish & Wildlife, Recreation and Navigation Support, Big Blue River, Riley and Potawatomie Counties, KS.

Summary: EPA expressed a lack of objections to the preferred alternative of stabilizing the dam's foundation without pool drawdown.

ERP No. D-IBR-G39036-NM Rating LO, City of Albuquerque Drinking Water Project to Provide a Sustainable Water Supply for Albuquerque through Direct and Full Consumptive Use of the City's San Juan-Chama (SJC) Water for Potable Purposes, Funding, Right-of-Way Grant and US Army COE Section 404 Permit Issuance, City of Albuquerque, NM.

Summary: EPA had no objections to the proposed project.

ERP No. D-NPS-D61054-VA Rating LO, Jamestown Project, Improvements at the Jamestown unit of Colonial National Park and the Jamestown National Historic Site, Implementation, James City County, VA.

Summary: EPA has no objections to the proposed action.

ERP No. D-NPS-H65011-MO Rating LO, Wilson's Creek National Battlefield General Management Plan, Implementation, Battle of Wilson's Creek Commemoration and Associated Battlefield Preservation, Greene and Christian Counties, MO.

Summary: EPA had no objections with the proposed General Management Plan.

ERP No. D-SFW-G91002-NM Rating EC2, Rio Grande Silvery Minnow (Hybognathus amarus) Critical Habitat Designation, Implementation, Bernalillo, Sandoval, Socorro and Valencia Counties, NM.

Summary: EPA had environmental concerns and requested additional information regarding indirect impacts on applicants for Federal actions/permits, effects on farms as small businesses, potential conflicts between conservation measures for minnow and the Southwestern Willow Flycatcher, and assessment of the consequences of not obtaining enough water rights to support the minnow.

ERP No. DS-COE-H34006-KS Rating EC2, John Redmond Lake (JRL) Reallocation of Water Supply Storage Project, Equitable Redistribution of Water Storage between the Flood Control Pool and the Conservation Pools, Neosho River, Marion and Council Grove Lakes, Coffey and Lyon Counties, KS.

Summary: EPA expressed environmental concerns that the Draft EIS did not provide information regarding upcoming Total Maximum Daily Load (TDML) plans for John Redmond Lake. EPA recommended that the Corps consult with the Kansas Department of Health and Environment on specific aspects of the upcoming TDML.

ERP No. DS-COE-K39034-CA Rating LO, Bel Marin Key Unit V Expansion of the Hamilton Wetland Restoration Project, New and Updated Information, Application for Approval of Permits, Novato Creek, Marin County, CA.

Summary: EPA supports the goals and objectives of the proposed restoration and has no objections to the proposed project.

Final EISs

ERP No. F-AFS-H65010-MO, Oak Decline and Forest Health Project, To Improve Forest Health, Treat Affected Stands, Recover Valuable Timber Products, and Promote Public Safety, Potosi and Salem Ranger Districts, Mark Twain National Forest, Crawford, Dent, Iron, Reynolds, Shannon and Washington, MO.

Summary: The Final EIS adequately addressed issues previously raised by EPA.

ERP No. F-AFS-J65355-UT, Ray's Valley Road Realignment, Proposal to Reduce or Eliminate Adverse Impacts to Watershed and Aquatic Species and Provide Safer Driving Conditions, Uinta National Forest, Spanish Fork Ranger District, Utah County, UT.

Summary: No formal comment letter was sent to the preparing agency.

ERP No. F-BLM-K67056-NV,

Leeville Mining Project, Proposal to Develop and Operate an Underground Mine and Ancillary Facilities including Dewatering Operation, Plan-of-Operations Approval, Right-of-Way Grant and U.S. Army COE Section 404 Permit Issuance, Eureaka and Elko Counties, NV.

SUMMARY: EPA expressed continuing environmental concerns regarding the project's potential impacts on water quality, based on BLM's geochemical analysis of waste rock from the project; and regarding cumulative impacts resulting from groundwater dewatering activities in the project area. EPA recommended that commitments to additional mitigation and monitoring be made in the Record of Decision, including establishment of a long term post closure trust fund at the start of the project, if it is predicted to be necessary.

ERP No. F-COE-H28001-NB, Platte West Water Production Facilities, Proposed New Drinking Water Production Facilities, Metropolitan Utilities District, Omaha District, Douglas, Saunders and Sarpy Counties, NB.

Summary: EPA continued to express environmental concerns over the precision of groundwater modeling and the potential for wellfield operations to influence a contaminant plume at the former Nebraska Ordnance Plant (NOP).

ERP No. F-TVA-E65059-00, Pickwick Reservoir Land Management Plan (Plan) Proposal to use the Plan to Guide Land-Use Approvals, Private Water Use Facility Permitting and Resource Management Decisions, Colbert and Lauderdale Counties, AL and Tishomingo County, MS and Hardin County, TN.

Summary: EPA has environmental concerns and continues to prefer Alternative C or a modification thereof that involve less development than the TVA's Preferred Alternative B.

ERP No. FB-COE-H36012-MO, St. Johns Bayou and New Madrid Floodway Project, Channel Enlargement and Improvement, Revised Information to Formulate and Analyze Additional Alternatives, Flood Control and National Economic Development (NED), New Madrid, Mississippi and Scott Counties, MO.

Summary: EPA continues to believe that the recommended plan (Alternative 3-1.B) raises substantive environmental objection issues. On the basis of information refinements and incorporation of a monitoring plan (whereby the Corps may validate assumptions and improve the potential for offsetting adverse impacts to wetlands resources), EPA has concluded that the project is not environmentally unsatisfactory.

Dated: September 10, 2002.
B. Katherine Biggs,
Associate Director, NEPA Compliance Division, Office of Federal Activities.

[FR Doc. 02-23368 Filed 9-12-02; 8:45 am]

BILLING CODE 6560-50-P